DEPARTMENT OF HOMELAND SECURITY

Coast Guard

[Docket No. USCG-2010-0455]

Availability of Draft Environmental Impact Statement for the Proposed Construction of a Highway Bridge Across the Manatee River at Parrish, Manatee County, FL

AGENCY: Coast Guard, DHS.

ACTION: Notice of availability and request for comments; notice of public meeting.

SUMMARY: The Coast Guard announces the availability of a Draft Environmental Impact Statement (DEIS) and announces a public meeting regarding the proposed construction of a highway bridge across the Manatee River at Parrish, Manatee County, Florida. As a structure over navigable waters of the United States, the proposed bridge would require a Coast Guard Bridge Permit. We request your comments on the DEIS and the proposed project's impact on river navigation.

DATES: Comments and related material must either be submitted to our online docket via http://www.regulations.gov on or before August 18, 2013, or reach the Docket Management Facility by that date. A public meeting will be held on August 7, 2013, from 4 p.m. until 6:30 p.m. If you wish to request an oral or sign language interpreter, we must receive your request for one by July 28, 2013.

ADDRESSES: You may submit comments identified by docket number USCG-2010-0455 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

We have provided a copy of the DEIS in our online docket at http://www.regulations.gov. Also, the following locations will maintain a printed copy of the DEIS for public review:

• Coast Guard Seventh District Bridge Office at 909 SE. 1st Avenue, Brickell Plaza Federal Building, Ste 432, Miami, Florida, 33131. The document will be available at this location between 8 a.m. and 4 p.m., Monday through Friday, except Federal holidays.

• Manatee County Chamber of Commerce at 4215 Concept Court, Lakewood Ranch, Florida, 34211. Call 941-748-3411 for hours of operation.

• Manatee County Central Library at 1301 Barcarrota Blvd. West, Bradenton, Florida, 34205. Call 941-748-5555 for hours of operation.

• Manatee County Rocky Bluff Library at 6750 US 301 North, Ellenton, Florida, 34222. Call 941-723-4821 for hours of operation.

The public meeting on August 7, 2013, will be held at the Manatee County Civic Center (also known as the Bradenton Area Convention Center), 1 Haben Blvd., Palmetto, Florida, 34221.

FOR FURTHER INFORMATION CONTACT: If you have questions on this notice or the public meeting, call or email Randall Overton, Bridge Management Specialist, Seventh Coast Guard District, U.S. Coast Guard; telephone 305-415-6736, email Randall.D.Overton@uscg.mil. If you have questions on viewing or submitting material to the docket, call Barbara Hairston, Program Manager, Docket Operations, telephone 202-366-9826.

SUPPLEMENTARY INFORMATION:

Public Participation and Request for Comments

We encourage you to submit comments and related material on the DEIS and the proposed project's impact on river navigation. All comments received, including comments received at the public meeting, will be posted, without change, to http://www.regulations.gov and will include any personal information you have provided.

Submitting comments: If you submit a comment, please include the docket number for this notice (USCG-2010-0455) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, and follow the instructions on that Web site. If you submit your comments by mail or hand delivery, submit them in an unbound format, no larger than 8½ by 11 inches, suitable for copying and electronic filing. If you submit comments by mail and would like to know that they reached the Facility, please enclose a stamped, self-addressed postcard or envelope. We will consider all comments and material received during the comment period and may change this proposed rule based on your comments.

Viewing the comments and the DEIS: To view the comments and DEIS go to http://www.regulations.gov, insert (USCG-2010-0455) in the SEARCH box and follow the instructions on that Web site. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility. The DEIS is also available online at http://www.uscg.mil/hq/cg5/cg551/CGLeadProjects.asp and is available for inspection at the Seventh Coast Guard District address given under ADDRESSES.

Copies of all written communications from the public meeting will be available for review by interested persons after the meeting on the online docket, USCG-2010-0455 via http://www.regulations.gov.

A transcript of the meeting will be available for public review approximately 30 days after the meeting. All comments will be made part of the official case record.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

Manatee County has proposed to construct a new highway bridge across navigable waters of the United States to provide improvements to north-south transportation movements in eastern Manatee County, Florida. Over the past decade, Manatee County has conducted studies to:

• Document potential impacts from proposed improvements;

• Document ways to provide safer operating conditions for vehicular and pedestrian traffic;

• Improve capacity of the local roadway network;

• Improve local mobility; reduce congestion; improve emergency response times; and

• Improve evacuation capacity across the Manatee River.

The DEIS identifies the preferred alternative as connecting Upper Manatee River Road and Fort Hamer Road with a new highway bridge across the Manatee River, approximate mile 15.0, at Parrish, Manatee County, Florida. The proposed structure would meet or exceed a vertical clearance of 26.0 feet. The purpose of the proposed crossing is to provide a transportation route between high-growth areas of Manatee County located east of Interstate 75 (I-75) and separated by the Manatee River. As a structure over navigable waters of the United States, it requires a Coast Guard Bridge Permit pursuant to the General Bridge Act of 1946 (33 U.S.C. 525-533). The bridge permit would be the major federal action in this undertaking since federal funds will not be used, and therefore the Department of Homeland Security, through the United States Coast Guard, is the federal lead agency for review of potential effects on navigation and on the human environment, including historic properties, pursuant to the National Environmental Policy Act of 1969 (NEPA), as amended (42 U.S.C. 4321 et seq.) and the National Historic Preservation Act (NHPA), as amended (16 U.S.C. 470 et seq.).

Manatee County has prepared a DEIS in conjunction with the U.S. Coast Guard and in accordance with NEPA. See “Viewing the comments and DEIS” above. The DEIS identifies and examines the reasonable alternatives (including “No Build”) and assesses the potential for impact to the human environment, including historic properties, of the alternative proposals. The DEIS provides an in-depth analysis of two alternative build sites, Fort Hamer Alternative which is a new two lane, low-level fixed span bridge, (Manatee County planning documents identified a need for 4-lanes of new capacity across the river east of I-75. Due to funding constraints and the lack of additional funding in the foreseeable future, the proposed action has been reduced from adding four lanes of capacity across the river to two lanes); and the Rye Road Alternative which is a second two lane, low-level fixed span bridge that would increase the current crossing capacity from two to four lanes.

We are requesting your comments on navigation, environmental and historic preservation concerns that you may have related to the DEIS. This includes suggesting analyses and methodologies for use in the DEIS or possible sources of data or information not included in the DEIS. Your comments will be considered in preparing the final Environmental Impact Statement.

The Coast Guard will hold a public meeting on the DEIS on Wednesday, August 7, 2013, from 4 p.m. to 6:30 p.m. at the Manatee County Civic Center (also known as the Bradenton Area Convention Center), 1 Haben Blvd., Palmetto, Florida 34221. The purpose of this meeting is to consider an application by Manatee County for Coast Guard approval of the location and plans of a proposed two-lane fixed, highway bridge across the Manatee River, mile 15.0, at Parrish, Manatee County, FL. All interested parties may present data, views and comments, orally or in writing, concerning the impact of the proposed bridge project on navigation and the human environment.

The public meeting will be informal. A representative of the Coast Guard will preside, make a brief opening statement and announce the procedure to be followed at the meeting. Attendees who request an opportunity to present oral comments at a public meeting must sign up to speak at the meeting site at the designated time of the meeting. Speakers will be called in the order of receipt of the request. Attendees at the meeting, who wish to present testimony, and have not previously made a request to do so, will follow those having submitted a request, as time permits. All oral presentations will be limited to three minutes. The public meeting may end early if all present wishing to speak have done so before the meeting is announced as adjourned. Any oral comments provided at the meeting will be transcribed and placed into the docket by the Coast Guard. Written comments and related material may also be submitted to Coast Guard personnel specified at that meeting for placement into the docket by the Coast Guard.

Information on Service for Individuals With Disabilities

For information on facilities or services for individuals with disabilities or to request special assistance at the public meeting, contact Randall Overton, Bridge Management Specialist, Seventh Coast Guard District, U.S. Coast Guard; at the telephone number or email address indicated under the FOR FURTHER INFORMATION CONTACT section of this notice. Any requests for an oral or sign language interpreter must be received by July 28, 2013. This notice is issued under authority of the General Bridge Act of 1946 (33 U.S.C. 525-533), 6 U.S.C. 468, DHS Delegation No. 0170.1, the National Historic Preservation Act (NHPA), as amended (16 U.S.C. 470 et seq.) and the National Environmental Policy Act of 1969 (42 U.S.C. 4321 et seq.), as implemented by the Council on Environmental Quality regulations (40 CFR parts 1500-1508), Department of Homeland Security Directive 023-01, and Coast Guard Commandant Instruction M16475.1D.

Dated: June 27, 2013.
Shelly Sugarman,
Acting Administrator, Office of Bridge Programs, U.S. Coast Guard.

[FR Doc. 2013-16031 Filed 7-3-13; 8:45 am]

BILLING CODE 9110-04-P